DEPARTMENT OF AGRICULTURE

Rural Business-Cooperative Service

Announcement of Value-Added Producer Grant Application Deadline; Correction

AGENCY: Rural Business-Cooperative Service, USDA.

ACTION: Notice; correction.

SUMMARY: This document corrects a notice that was published on December 21, 2005 (70 FR 75780-75790), which contained errors that may prove misleading and is in need of clarification. All applications must still be submitted by the deadline date of March 31, 2006.

Accordingly, the notice that was published on December 21, 2005 (70 FR 75780-75790) is corrected as follows:

On page 75781 in the second column, under the definition for “Bioenergy Project”, remove the words “other than an anaerobic digester.”

On page 75787 in the second column, paragraph vii, in the second sentence, revise the number “$300,000” to read “$100,000”.

On page 75788 in the second column, paragraph vii, revise the second sentence to read as follows:

“The allocation of points for this criterion shall be as follows: $1-$25,000 equals 2 points, $25,001-$50,000 equals 1 point, $50,001-$300,000 equals 0 points.”

Dated: February 17, 2006.
Thomas Dorr,
Under Secretary, Rural Development.

[FR Doc. E6-2659 Filed 2-23-06; 8:45 am]

BILLING CODE 3410-XY-P